DEPARTMENT OF ENERGY

Federal Energy Regulatory Commission

[Docket No. CP03-20-000]

Northern Natural Gas Company; Notice of Application

December 19, 2002.

Take notice that on December 10, 2002, Northern Natural Gas Company (Northern), 1111 South 103rd Street, Omaha, Nebraska 68124, filed in Docket No. CP03-20-000 an application pursuant to section 7(b) of the Natural Gas Act (NGA) and part 157 of the Commission's regulations thereunder (18 CFR 157.7 and 157.18), for permission and approval to abandon certain pipeline facilities in Nebraska, all as more fully set forth in the application which is on file with the Commission and open to public inspection. This filing is available for review at the Commission in the Public Reference Room or may be viewed on the Commission's Web site at http://www.ferc.gov using the “FERRIS” link. Enter the docket number excluding the last three digits in the docket number field to access the document. For assistance, call (202) 502-8222 or for TTY, (202) 208-1659.

Specifically, Northern proposes to abandon by removal approximately 310 feet and to abandon in place approximately 4.5 miles of 16-inch pipeline, known as its A-line and located in Dodge County, Nebraska. Northern states that the reason for the proposed abandonment is to eliminate an encroached area of the pipeline and to make way for the City of Fremont, Nebraska, and private developers located in Dodge County. It is asserted that the proposed abandonment would not result in the abandonment of service to any of Northern's existing shippers and would not adversely affect the capacity of Northern's system or interfere with Northern's ability to meet its current contract obligations. The cost of abandoning the pipeline facilities is estimated at $123,000.

Any questions regarding this application should be directed to Michael T. Loeffler, Director, Certificates and Community Relations for Northern, 1111 South 103rd Street, Omaha, Nebraska 68124, at (402) 398-7103 or Bret Fritch, Senior Regulatory Analyst, at (402) 398-7140.

There are two ways to become involved in the Commission's review of this project. First, any person wishing to obtain legal status by becoming a party to the proceedings for this project should, on or before January 9, 2003, file with the Federal Energy Regulatory Commission, 888 First Street, N.E. Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commentators will not receive copies of all documents filed by other parties or issued by the Commission (except for the mailing of environmental documents issued by the Commission) and will not have the right to seek court review of the Commission's final order.

Comments, protests and interventions may be filed electronically via the Internet in lieu of paper. See 18 CFR385.2001(a)(1)(iii) and the instructions on the Commission's Web site under the “e-filing” link. The Commission strongly encourages intervenors to file electronically.

If the Commission decides to set the application for a formal hearing before an Administrative Law Judge, the Commission will issue another notice describing that process. At the end of the Commission's review process, a final Commission order approving or denying a certificate will be issued.

Linwood A. Watson, Jr.,
Deputy Secretary.

[FR Doc. 02-32552 Filed 12-24-02; 8:45 am]

BILLING CODE 6717-01-P